DEPARTMENT OF HOMELAND SECURITY

Coast Guard

46 CFR Parts 10, 11, 12, 13, 15, 16, 30, 35, and 39

[Docket No. USCG-2021-0097]

RIN 1625-AC75

Electronic Submission of Mariner Course Completion Data; Correction

AGENCY: Coast Guard, DHS.

ACTION: Final rule; correction.

SUMMARY: The Coast Guard is correcting a final rule that appeared in the Federal Register on November 25, 2024. The document required Coast Guard-approved training providers to electronically submit course completion data to the Coast Guard within 5 business days of completion, as well as making numerous editorial changes. The document contained four mistakes that require correction.

DATES: This correction is effective January 17, 2025.

FOR FURTHER INFORMATION CONTACT: For information about this document call or email Mr. Brian T. Eichelberger, Office of Merchant Mariner Credentialing, Coast Guard; telephone 202-372-1450, email Brian.T.Eichelberger@uscg.mil.

SUPPLEMENTARY INFORMATION: In FR Doc. 2024-24271, appearing on page 93040 in the Federal Register of Monday, November 25, 2024, the following corrections are made:

Corrections

1. On page 93040, in the first column, in the DATES section, the date “November 25, 2026” is corrected to read “January 19, 2027.”

PART 10—[Corrected]

2. On page 93054, in the first column, in part 10, in amendatory instruction 2, the set-out table is corrected to read as follows:

Remove | Add
Certificate of registry | Certificate of Registry.
certificate of registry | Certificate of Registry.
merchant mariner credential | Merchant Mariner Credential.
merchant mariner credentials | Merchant Mariner Credentials.
Merchant mariner's document | Merchant Mariner's Document.
merchant mariner's document | Merchant Mariner's Document.
Merchant mariner credential | Merchant Mariner Credential.

§ 11.315 [Corrected]

3. On page 93073, in the second and third columns below Table 1 to § 11.315(d), in amendatory instruction 40, paragraph (a)(3) is corrected to be read as follows:

“(3) Provide evidence of having satisfactorily completed approved training in the following subject areas:

(i) Medical First-aid Provider.

(ii) Basic and Advanced Firefighting in accordance with § 11.303.

(iii) Proficiency in Survival Craft and Rescue Boats other than Fast Rescue Boats (PSC) or Proficiency in Survival Craft and Rescue Boats other than Lifeboats and Fast Rescue Boats (PSC-Limited).

(iv) Radar Observer, if serving on a vessel with this equipment.

(v) Leadership and managerial skills.

(vi) ECDIS, if serving on a vessel with this equipment.

(vii) Radar Observer, if serving on a vessel with this equipment.

(viii) ARPA, if serving on a vessel with this equipment.”

§ 11.319 [Corrected]

4. On page 93074, in the first column, in amendatory instruction 41, the instruction “Amend § 11.319 by revising the section heading, paragraph (a), and table 1 to § 11.317(d) to read as follows:” is corrected to read “Amend § 11.319 by revising the section heading, paragraph (a), and table 1 to § 11.319(d) to read as follows:”

Dated: December 18, 2024.
Michael Cunningham,
Chief, Office of Regulations and Administrative Law, U.S. Coast Guard.

[FR Doc. 2024-30599 Filed 12-26-24; 8:45 am]

BILLING CODE 9110-04-P